DEPARTMENT OF TRANSPORTATION

Federal Aviation Administration

14 CFR Part 39

[Docket No. FAA-2005-21702; Directorate Identifier 2005-NM-024-AD; Amendment 39-14473; AD 2006-03-09]

RIN 2120-AA64

Airworthiness Directives; Airbus Model A330-200 and -300 Series Airplanes, A340-200 and -300 Series Airplanes, and A340-541 and -642 Airplanes

AGENCY: Federal Aviation Administration (FAA), Department of Transportation (DOT).

ACTION: Final rule.

SUMMARY: The FAA is adopting a new airworthiness directive (AD) for certain Airbus Model A330-200 and -300 series airplanes, A340-200 and -300 series airplanes, and A340-541 and -642 airplanes. This AD requires repetitive borescope inspections of the left and right fuel tanks of the trimmable horizontal stabilizers (trim tanks) for detached or damaged float valves; related investigative/corrective actions if necessary; and the eventual replacement of all float valves in the left and right trim tanks with new, improved float valves, which terminates the need for the repetitive inspections. This AD also requires repetitive replacement of certain new, improved float valves. This AD results from reports of detached and damaged float valves in the trim tanks. We are issuing this AD to prevent, in the event of a lightning strike to the horizontal stabilizer, sparking of metal parts and debris from detached and damaged float valves, or a buildup of static electricity, which could result in ignition of fuel vapors and consequent fire or explosion.

DATES: This AD becomes effective March 13, 2006.

The Director of the Federal Register approved the incorporation by reference of certain publications listed in the AD as of March 13, 2006.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tim Backman, Aerospace Engineer, International Branch, ANM-116, FAA, Transport Airplane Directorate, 1601 Lind Avenue, SW., Renton, Washington 98055-4056; telephone (425) 227-2797; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to certain Airbus Model A330 and A340 series airplanes. That NPRM was published in the Federal Register on June 29, 2005 (70 FR 37296). That NPRM proposed to require repetitive borescope inspections of the left and right fuel tanks of the trimmable horizontal stabilizers (trim tanks) for detached or damaged float valves; related investigative/corrective actions if necessary; and the eventual replacement of all float valves in the left and right trim tanks with new, improved float valves, which terminates the need for the repetitive inspections. That NPRM also proposed to require repetitive replacement of certain new, improved float valves.

Comments

We provided the public the opportunity to participate in the development of this AD. We have considered the comments received.

Requests That Resulted in a Change to the NPRM

Request To Add Another Service Bulletin

One commenter requests that the NPRM reference an additional service bulletin. The commenter explains that Airbus Service Bulletin A330-28-3093, dated June 16, 2005, installs the same Airbus modification number (53081) as Airbus Service Bulletin A330-28-3094, dated April 7, 2005, which was referenced in the NPRM as an appropriate source of service information. The commenter explains that the effectivity in Airbus Service Bulletin A330-28-3093 includes all of the commenter's airplanes, while Airbus Service Bulletin A330-28-3094 does not.

We agree to add Airbus Service Bulletin A330-28-3093 as another method of compliance to the requirements of the AD. We note that adding this service bulletin is for the convenience of the operator in accomplishing the actions required by this AD, and does not add or remove any airplane listed in the applicability of this AD.

Request To Revise the Costs of Compliance

The same commenter requests that the NPRM be revised to add an estimated cost for access to each of the valves during replacement of the valves, which is a terminating action. The commenter notes that the service information estimates a total of 76 hours of access related labor time. The commenter estimates a more realistic value to be 116 hours. The commenter recognizes that access time is typically not included in the labor estimates of ADs. However, the commenter advises that there are no tasks in the A330 maintenance program that require access to this area. Therefore, the access hours will be driven solely and specifically by the NPRM.

We agree that, in this case, it is appropriate to consider the time necessary for access. We also recognize that different operators may have different access times based on different airplane configurations or other considerations. The estimated cost information for access that is provided by the manufacturer is the latest information that we have, and we have revised the AD to reflect that estimate.

Requests That Did Not Result in a Change to the NPRM

Request To Address Defective Parts Manufacturer Approval (PMA) Parts

One commenter requests that the NPRM be modified to include possible “defective” parts manufactured with a parts manufacturer approval (PMA) that may be installed in lieu of the defective original equipment manufacturer (OEM) part specified in the NPRM. The commenter states that a “known” PMA part exists for the defective OEM part specified in the NPRM, and may contain the same defects as the specified OEM part. The commenter further points out that, if a PMA part is defective and currently installed, the NPRM would not require its removal.

We concur with the commenter's general request that, if we know that an unsafe condition also exists in PMA parts, the AD should address those parts, as well as the original parts. Contrary to the commenter's assertion that the known PMA part is not covered by the wording of the NPRM, the “known” PMA part identified by the commenter does have the same part number as the part number specified in the NPRM. Therefore, it is also subject to the requirements of this AD. We are not aware of other PMA parts that may have a different part number. The commenter's remarks are timely in that the Transport Airplane Directorate currently is in the process of reviewing this issue as it applies to transport category airplanes. We acknowledge that there may be other ways of addressing this issue to ensure that unsafe PMA parts are identified and addressed. Once we have thoroughly examined all aspects of this issue, including input from industry, and have made a final determination, we will consider whether our policy regarding addressing PMA parts in ADs needs to be revised. We consider that to delay this AD action would be inappropriate, since we have determined that an unsafe condition exists and that replacement of certain parts must be accomplished to ensure continued safety. Therefore, no change has been made to the final rule in this regard.

Request to Reference PMA Parts

The same commenter also requests that the language in the NPRM be changed to permit installation of PMA equivalent parts. The commenter states that the mandated installation of a certain part number in the NPRM “is at variance with the higher authority of 14 CFR Section 21.303.”

We infer that the commenter would like the AD to permit installation of any equivalent PMA parts so that it is not necessary for an operator to request approval of an alternative method of compliance (AMOC) in order to install an “equivalent” PMA part. Whether an alternative part is “equivalent” in adequately resolving the unsafe condition can only be determined on a case-by-case basis based on a complete understanding of the unsafe condition. We are not currently aware of any such parts. Our policy is that, in order for operators to replace a part with one that is not specified in the AD, they must request an AMOC. This is necessary so that we can make a specific determination that an alternative part is or is not susceptible to the same unsafe condition.

In response to the commenter's statement regarding a “variance with FAR 21.303,” under which the FAA issues PMAs, this statement appears to reflect a misunderstanding of the relationship between ADs and the certification procedural regulations of part 21 of the FARs (14 CFR part 21). Those regulations, including section 21.303 of the FARs (14 CFR part 21.303), are intended to ensure that aeronautical products comply with the applicable airworthiness standards. But ADs are issued when, notwithstanding those procedures, we become aware of unsafe conditions in these products or parts. Therefore, an AD takes precedence over design approvals when we identify an unsafe condition, and mandating installation of a certain part number in an AD is not at variance with section § 21.303.

The AD provides a means of compliance for operators to ensure that the identified unsafe condition is addressed appropriately. For an unsafe condition attributable to a part, the AD normally identifies the replacement parts necessary to obtain that compliance. As stated in section 39.7 of the FARs (14 CFR 39.7), “Anyone who operates a product that does not meet the requirements of an applicable airworthiness directive is in violation of this section.” Unless an operator obtains approval for an AMOC, replacing a part with one not specified by the AD would make the operator subject to an enforcement action and result in a civil penalty. No change to the AD is necessary in this regard.

Editorial Changes to the AD

Clarification of Alternative Method of Compliance (AMOC) Paragraph

We have revised this action to clarify the appropriate procedure for notifying the principal inspector before using any approved AMOC on any airplane to which the AMOC applies.

Explanation of Change to Applicability

We have revised the applicability of the existing AD to identify model designations as published in the most recent type certificate data sheet for the affected models.

Conclusion

We have carefully reviewed the available data, including the comments received, and determined that air safety and the public interest require adopting the AD with the changes described previously. We have determined that these changes will neither increase the economic burden on any operator nor increase the scope of the AD.

Costs of Compliance

The following table provides the estimated costs, at an average labor rate per hour of $65, for U.S. operators of Model A330-200 and -300 series airplanes to comply with this AD.

Estimated Costs
Action | Work hours | Parts | Cost per airplane | Number of U.S. registered airplanes | Fleet cost
Repetitive borescope inspection, per inspection cycle | 2 hours for inspection | None | $130 | 25 | $3,250, per inspection cycle.
Installation of float valves (including access) | 4 hours (2 per valve, 2 valves per airplane) plus 76 hours for access | No charge | 5,200 | 25 | $130,000, per installation.
Bonding test (new, improved float valves, left trim tank only) | 1 | None | 65 | 25 | $1,625.

Currently, there are no affected Model A340-200 and -300 series airplanes and A340-541 and -642 airplanes on the U.S. Register. However, should an affected airplane be imported and placed on the U.S. Register in the future, it would be subject to the actions of this AD. The estimated costs would be the same as those listed above for the Model A330-200 and -300 series airplanes.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-03-09 Airbus: Amendment 39-14473. Docket No. FAA-2005-21702; Directorate Identifier 2005-NM-024-AD.

Effective Date

(a) This AD becomes effective March 13, 2006.

Affected ADs

(b) None.

Applicability

(c) This AD applies to Airbus Model A330-201, -202, -203, -223, -243, -301, -321, -322, -323, -341, -342, and -343 airplanes; and A340-211, -212, -213 -311, -312, -313, -541, and -642 airplanes; certificated in any category, as identified in Table 1 of this AD.

Table 1.—Applicability
Airbus model | Except those modified in production by Airbus modification
A330-201, -202, -203, -223, -243, -301, -321, -322, -323, -341, -342, and -343 airplanes | 51953 and either 52110 or 53081.
A340-211, -212, -213, -311, -312, -313 airplanes | 51953 and either 52110 or 53081.
A340-541 and -642 airplanes | 51951 and either 52109 or 53081.

Unsafe Condition

(d) This AD was prompted by reports of detached and damaged float valves in the left and right fuel tanks of the trimmable horizontal stabilizers (trim tanks). We are issuing this AD to prevent, in the event of a lightning strike to the horizontal stabilizer, sparking of metal parts and debris from detached and damaged float valves, or a buildup of static electricity, which could result in ignition of fuel vapors and consequent fire or explosion.

Compliance

(e) You are responsible for having the actions required by this AD performed within the compliance times specified, unless the actions have already been done.

Borescope Inspection

(f) At the later of the times specified in paragraph (f)(1) and (f)(2) of this AD: Do a borescope inspection for detached or damaged float valves in the left and right trim tanks, by doing the applicable actions in the Accomplishment Instructions of Airbus Service Bulletins A330-28-3086, dated July 24, 2003, and A330-28-3087, Revision 01, dated August 16, 2004 (for Model A330-201, -202, -203, -223, -243, -301, -321, -322, -323, -341, -342, and -343 airplanes); or A340-28-4100 and A340-28-4101, both Revision 01, both dated August 16, 2004 (for Model A340-211, -212, -213, -311, -312, and -313 airplanes); as applicable.

(1) Prior to the accumulation of 2,500 total flight cycles or 15,000 total flight hours, whichever is first.

(2) Within 7,500 flight hours after the effective date of this AD.

Related Investigative and Corrective Actions

(g) Depending on the results of the inspection required by paragraph (f) of this AD: Do the applicable actions in accordance with the Accomplishment Instructions of the applicable service bulletin identified in Table 2 of this AD, at the times specified in Table 2.

Table 2.—Inspection Results and Related Investigative/Corrective Actions
If inspection results reveal— | Then— | In accordance with Airbus service bulletin—
Detached or damaged float valve in the right trim tank | Before further flight: (1) Remove the detached float and float debris from trim tank and do a detailed tank inspection for structural damage to the affected trim tank. Repair any structural damage to the trim tank or deactivate the trim tank, before further flight, in accordance with the applicable service bulletin, or in accordance with a method approved by the Manager, International Branch, ANM-116, FAA, Transport Airplane Directorate; or the Direction Générale de l'Aviation Civile (DGAC) (or its delegated agent). Where the service bulletin specifies to contact the manufacturer, instead contact the Manager, International Branch, ANM-116, or the DGAC (or its delegated agent). | A330-28-3086, dated July 24, 2003. A340-28-4100, Revision 01, dated August 16, 2004.
| Before further flight, after doing the detailed inspection and repairing any structural damage: (2) Replace the affected float valve with a new unit having the same part number (P/N), or a new, improved float valve, P/N 62015-1, in accordance with the applicable service bulletin. If a new unit of P/N 61600 is installed, thereafter, do the inspection required by paragraph (f) of this AD at intervals not to exceed 2,500 flight cycles or 15,000 flight hours, whichever is first, after the most recent inspection, until paragraph (h) of this AD is accomplished. | A330-28-3086, dated July 24, 2003. A330-28-3088, dated April 27, 2004. A340-28-4100, Revision 01, dated August 16, 2004. A340-28-4102, dated April 27, 2004.
Detached or damaged float valve in the left trim tank | Before further flight: (1) Remove the detached float and float debris from the trim tank and do a detailed inspection for structural damage to the affected trim tank. Repair any structural damage to the trim tank or deactivate the trim tank, before further flight, in accordance with the applicable service bulletin, or in accordance with a method approved by the Manager, International Branch, ANM-116, FAA, Transport Airplane Directorate; or the DGAC (or its delegated agent). Where the service bulletin specifies to contact the manufacturer, instead contact the Manager, International Branch, ANM-116, or the DGAC (or its delegated agent). | A330-28-3087, Revision 01, dated August 16, 2004. A340-28-4101, Revision 01, dated August 16, 2004.
| Before further flight, after doing the detailed inspection and repairing any structural damage: (2) Replace the affected float valve with either a new unit having that same P/N, or a new improved float valve, P/N L87-13-002 or P/N L87-13-003. If a new unit of P/N L87-13-001 is installed, thereafter, do the inspection required by paragraph (f) of this AD at intervals not to exceed 2,500 flight cycles or 15,000 flight hours, whichever is first, after the most recent inspection, until paragraph (h) of this AD is accomplished. For Airbus Model A330-201, -202, -203, -223, -243, -301, -321, -322, -323, -341, -342, and -343 airplanes: If a float valve having P/N L87-13-002 is installed, thereafter, replace that float valve with a float valve having that same P/N at intervals not to exceed those specified in paragraph (h) of this AD. Installation of P/N L87-13-003 on Airbus Model A330-201, -202, -203, -223, -243, -301, -321, -322, -323, -341, -342, and -343 airplanes terminates the repetitive float valve replacement required by paragraph (h) of this AD. | A330-28-3087, Revision 01, dated August 16, 2004. A330-28-3089, Revision 02, dated April 1, 2005. A330-28-3093, dated June 16, 2005. A330-28-3094, dated April 7, 2005. A340-28-4101, Revision 01, dated August 16, 2004. A340-28-4103, Revision 02, dated April 1, 2005. A340-28-4111, dated April 6, 2005.
No damaged or detached float valve in the left trim tank | Within 10,000 flight hours or 1,500 flight cycles, whichever is first, from the initial inspection done in accordance with paragraph (f) of this AD, replace the existing Argo-Tech float valve, P/N 61600, with either a new unit having that same P/N, or a new, improved float valve, P/N 62015-1. If a new unit of P/N 61600 is installed, thereafter, repeat the inspection required by paragraph (f) of this AD at intervals not to exceed 2,500 flight cycles or 15,000 flight hours, whichever is first, until paragraph (h) of this AD is accomplished. | A330-28-3086, dated July 24, 2003. A330-28-3088, dated April 27, 2004. A340-28-4100, Revision 01, dated August 16, 2004. A340-28-4102, dated April 27, 2004.
No damaged or detached float valve in the left trim tank | Within 10,000 flight hours or 1,500 flight cycles, whichever is first, from the initial inspection done in accordance with paragraph (f) of this AD, replace the existing Intertechnique float valve, P/N L87-13-001, with either a new unit having that same P/N, or a new improved float valve, P/N L87-13-002 or P/N L87-13-003. If a new unit of P/N L87-13-001 is installed, thereafter, do the inspection required by paragraph (f) of this AD at intervals not to exceed 2,500 flight cycles or 15,000 flight hours, whichever is first, after the most recent inspection, until paragraph (h) of this AD is accomplished. For Airbus Model A330-201, -202, -203, -223, -243, -301, -321, -322, -323, -341, -342, and -343 airplanes: If a float valve having P/N L87-13-002 is installed, thereafter, replace that float valve with a float valve having that same P/N at intervals not to exceed those specified in paragraph (h) of this AD. Installation of P/N L87-13-003 on Airbus Model A330-201, -202, -203, -223, -243, -301, -321, -322, -323, -341, -342, and -343 airplanes terminates the repetitive float valve replacement required by paragraph (h) of this AD. | A330-28-3087, Revision 01, dated August 16, 2004. A330-28-3089, Revision 02, dated April 1, 2005. A330-28-3093, dated June 16, 2005. A330-28-3094, dated April 7, 2005. A340-28-4101, Revision 01, dated August 16, 2004. A340-28-4103, Revision 02, dated April 1, 2005. A340-28-4111, dated April 6, 2005.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Installation of New, Improved Float Valves

(h) Within 50 months after the effective date of this AD: Replace any Argo-Tech float valve, P/N 61600, with a new, improved float valve, P/N 62015-1; replace any Intertechnique float valve, P/N L87-13-001, with a new, improved float valve, P/N L87-13-002 or P/N L87-13-003; and do any applicable corrective action; by accomplishing the actions specified in the Accomplishments Instructions of the applicable service bulletin in Table 3 of this AD. Do any applicable corrective action before further flight. For Airbus Model A330-201, -202, -203, -223, —243, -301, -321, -322, -323, -341, -342, and -343 airplanes: If P/N L87-13-002 is installed, replace the float valve thereafter at intervals not to exceed 24,500 flight cycles. Installation of P/N L87-13-003 on Airbus Model A330-201, -202, -203, -223, —243, -301, -321, -322, -323, -341, -342, and -343 airplanes terminates the repetitive float valve replacement required by this paragraph. Installation of either P/N L87-13-002 or P/N L87-13-003 terminates the borescope inspections required by paragraphs (f) and (g) of this AD. Where the service bulletin specifies to contact the manufacturer, instead contact the Manager, International Branch, ANM-116, or the DGAC (or its delegated agent).

Table 3.—Service Information for New Float Valves
Airbus model | Float valve P/N | Airbus service bulletin
A330-201, -202, -203, -223, —243, -301, -321, -322, -323, -341, -342, and -343 airplanes | 62015-1 L87-13-002 L87-13-003 L87-13-003 | A330-28-3088, dated April 27, 2004. A330-28-3089, Revision 02, dated April 1, 2005. A330-28-3093, dated June 16, 2005. A330-28-3094, dated April 7, 2005.
A340-211, -212, -213, -311, -312, and —313 airplanes | 62015-1 L87-13-002 L87-13-003 | A340-28-4102, dated April 27, 2004. A340-28-4103, Revision 02, dated April 1, 2005. A340-28-4111, dated April 6, 2005.
A340-541— and -642 airplanes | 62015-1 L87-13-002 L87-13-003 | A340-28-5007, dated May 7, 2004. A340-28-5010, dated may 7, 2004. A340-28-5021, dated April 6, 2005.

Actions Accomplished Previously

(i) Inspections and related investigative and corrective actions accomplished before the effective date of this AD, in accordance with any applicable Airbus service bulletin identified in Table 4 of this AD, are acceptable for compliance with the corresponding actions specified in this AD.

Table 4.—Service Information for Actions Accomplished Previously
Airbus model | Airbus service bulletin
A330-201, -202, -203, -223, —243, -301, -321, -322, -323, -341, -342, and -343 airplanes | A330-28-3087, dated July 24, 2003. A330-28-3089, Revision 01, dated May 12, 2004.
A340-211, -212, -213, -311, -312, and —313 airplanes | A340-28-4100, dated July 24, 2003. A340-28-4101, dated July 24, 2003. A340-28-4103, Revision 01, dated May 12, 2004. A340-28-5010, dated May 7, 2004. A340-28-5021, dated April 6, 2005.

No Submission of Information/Parts

(j) Where any Airbus service bulletin specifies to submit information to Airbus, or send removed float valves to either Argo-Tech or Intertechnique, those actions are not required by this AD.

Alternative Methods of Compliance (AMOCs)

(k)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

Related Information

(l) French airworthiness directives F-2005-003, dated January 5, 2005, and F-2005-004 R1 and F-2005-005 R1, both dated April 27, 2005, also address the subject of this AD.

Material Incorporated by Reference

(m) You must use the documents specified in Table 5 of this AD to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Table 5.—Material Incorporated by Reference
Airbus service bulletin | Revision level | Date
A330-28-3086, excluding Appendix 01 | Original | July 24, 2003.
A330-28-3087, excluding Appendix 01 | 01 | August 16, 2004.
A330-28-3088 | Original | April 27, 2004.
A330-28-3089 | 02 | April 1, 2005.
A330-28-3093 | Original | June 16, 2005.
A330-28-3094 | Original | April 7, 2005.
A340-28-4100 | 01 | August 16, 2004.
A340-28-4101, excluding Appendix 01 | 01 | August 16, 2004.
A340-28-4102 | Original | April 27, 2004.
A340-28-4103 | 02 | April 1, 2005.
A340-28-4111 | Original | April 6, 2005.
A340-28-5007 | Original | May 7, 2004.
A340-28-5010 | Original | May 7, 2004.
A340-28-5021 | Original | April 6, 2005.

Issued in Renton, Washington, on January 27, 2006.
Ali Bahrami,
Manager, Transport Airplane Directorate, Aircraft Certification Service.

[FR Doc. 06-989 Filed 2-3-06; 8:45 am]

BILLING CODE 4910-13-P